DEPARTMENT OF HEALTH AND HUMAN SERVICES

Health Resources and Services Administration

Agency Information Collection Activities: Proposed Collection: Public Comment Request; Information Collection Request Title: HRSA Grantee Customer Satisfaction Survey

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than May 9, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 594-4394.

SUPPLEMENTARY INFORMATION: When submitting comments or requesting information, please include the ICR title for reference.

Information Collection Request Title: HRSA Grantee Customer Satisfaction Survey, OMB No. 0906-0006—REVISION.

Abstract: The Office of Federal Assistance Management within HRSA plans to survey HRSA grant recipients to better understand their opinions about HRSA's grants processes and to improve the way HRSA conducts business with them. This survey will focus on grantee customer satisfaction areas related to the grants life cycle, grantee relationships with HRSA staff (e.g., Project Officers, Grants Management Officers), technical assistance received from HRSA Bureaus and Offices, availability of grant resources, and grantee access to guidance and instructional documents, etc. The seven grants management areas, which are directly related to the grants life cycle, are: Customer Service/Cooperation; Policies and Procedures; Pre-Award Phase; Award Phase; Reporting/Post-Award Administration; Technical Assistance; and Priorities for Improvement. Receiving this information from external customers will provide HRSA with a repository of information that will be incorporated into strategic efforts to improve grants management services and customer service.

Need and Proposed Use of the Information: The HRSA Grantee Customer Satisfaction Survey will provide meaningful and relevant results to agency decision-makers about various customer satisfaction domains (e.g., efficiency, timeliness, usefulness, responsiveness, quality of and overall satisfaction with HRSA project officers, products, and services). The information collected will assist HRSA in its efforts to gauge, understand, and effectively respond to the needs and concerns of its customers, especially as they relate to the aforementioned areas. The survey results will provide HRSA with concrete indicators regarding the best areas in which to dedicate resources to improve customer service. This information will be used to support agency-wide continuous quality improvement efforts. Survey results will also be used by HRSA to improve the efficiency, quality, and timeliness of its grants business processes, as well as to strengthen its partnership with external customers.

Likely Respondents: HRSA grantees, specifically individuals who hold positions as a grantee's Grant Administrator, Business Officer, or Project Director/Principal Investigators, etc.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses * | Average burden per response (in hours) | Total burden hours
HRSA Grants Management Customer Satisfaction Survey | 3,690 | 1 | 1,180 | 0.25 | 295
Total | 3,690 | 1 | 1,180 | 0.25 | 295
* The Survey will be sent to 3,690 grantee organization contacts. Based on HRSA Customer Grantee Satisfaction Surveys administered in previous years, HRSA estimates a 32 percent response rate.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-04863 Filed 3-9-23; 8:45 am]

BILLING CODE 4165-15-P